DEPARTMENT OF HEALTH AND HUMAN SERVICES

National Institutes of Health

Center for Scientific Review; Amended Notice of Meeting

Notice is hereby given of a change in the meeting of the Center for Scientific Review Special Emphasis Panel, November 21, 2019, 8:00 a.m. to November 22, 2019 4:00 p.m., at the Residence Inn Bethesda, 7335 Wisconsin Avenue, Bethesda, MD 20814 which was published in the Federal Register on November 04, 2019, 84 FR 59392.

The meeting will be held for one day November 21, 2019 starting at 8:00 a.m. and ending at 8:00 p.m. The meeting location remains the same. The meeting is closed to the public.

Dated: November 19, 2019.
Melanie J. Pantoja,
Program Analyst, Office of Federal Advisory Committee Policy.

[FR Doc. 2019-25479 Filed 11-22-19; 8:45 am]

BILLING CODE 4140-01-P